Title 3—

The President

Presidential Determination No. 2013-14 of September 13, 2013

Presidential Determination on Major Drug Transit or Major Illicit Drug Producing Countries for Fiscal Year 2014

Memorandum for the Secretary of State

Pursuant to section 706(1) of the Foreign Relations Authorization Act, FY 2003 (Public Law 107-228) (FRAA), I hereby identify the following countries as major drug transit and/or major illicit drug producing countries: Afghanistan, The Bahamas, Belize, Bolivia, Burma, Colombia, Costa Rica, the Dominican Republic, Ecuador, El Salvador, Guatemala, Haiti, Honduras, India, Jamaica, Laos, Mexico, Nicaragua, Pakistan, Panama, Peru, and Venezuela.

A country's presence on the foregoing list is not a reflection of its government's counternarcotics efforts or level of cooperation with the United States. Consistent with the statutory definition of a major drug transit or illicit drug producing country set forth in section 481(e)(2) and (5) of the Foreign Assistance Act of 1961, as amended (FAA), one of the reasons major drug transit or illicit drug producing countries are placed on the list is the combination of geographic, commercial, and economic factors that allow drugs to transit or be produced, even if a government has carried out the most assiduous narcotics control law enforcement measures.

In addition, the law requires identification of any country on the list that has “failed demonstrably” during the previous 12 months to make substantial efforts to adhere to its obligations under international counternarcotics agreements and take certain counternarcotics measures as cited in section 489(a)(1) of the FAA.

Countries found to have failed demonstrably may receive certain U.S. assistance only if the President determines that provision of such assistance is vital to the national interests of the United States, or if subsequent to the designation, the President determines that the country has made substantial efforts to meet the requirement.

Pursuant to section 706(2)(A) of the FRAA, I hereby designate Bolivia, Burma, and Venezuela as countries that have failed demonstrably during the previous 12 months to make substantial efforts to adhere to their obligations under international counternarcotics agreements and take the measures set forth in section 489(a)(1) of the FAA. Included in this report are justifications for the determinations on Bolivia, Burma, and Venezuela, as required by section 706(2)(B) of the FRAA. Explanations for these decisions are published with this determination.

I have also determined, in accordance with provisions of section 706(3)(A) of the FRAA, that support for programs to aid Burma and Venezuela is vital to the national interests of the United States.

Drug Producing and Trafficking Trends in Strategic Areas

In addition to the listed countries, the following notable drug production and trafficking trends were observed in the preparation of this determination.

Afghanistan

Afghanistan is the world's largest grower of illegal opium poppy and produces approximately 90 percent of the world's illicit opium. Nearly all poppy cultivation occurs in the southern and western parts of the country, especially Helmand Province. Instability in these regions allows criminal networks, insurgent groups, and illicit cultivation and drug production to thrive.

Most recently, opium production in Afghanistan declined in spite of an increase in the total ground area under poppy cultivation. The drop stemmed primarily from crop disease and poor conditions as some farmers growing illegal crops moved to less hospitable agricultural growing regions. Countering the opium trade remains an uphill struggle and a long-term challenge. Working with Afghan partners, international allies and multilateral organizations, the United States continues to support the commitment to establish effective and sustainable Afghan-led programs that are critical to Afghan security and regional stability.

Afghanistan has continued to take greater responsibility to design and implement its own anti-narcotics programs. The government aggressively eradicated illicit opium poppy during the most recent growing season, as well as carrying out alternative livelihoods and demand reduction policies. To help stem the country's growing domestic drug abuse, the United States has funded a scientifically based survey of urban areas to determine prevalence of use, including among children, and is funding more than 60 in- and out-patient drug treatment centers. The United States supports a wide range of other illegal crop controls, alternative development, drug awareness and treatment projects, including training and treatment service delivery programs implemented through international organizations.

As we approach the 2014 withdrawal of international forces from Afghanistan, the country requires continued international support. Even greater efforts are needed to bring counternarcotics programs into the mainstream of social and economic development strategies to successfully curb illegal drug cultivation and production of opium as well as the high use of opiates among the Afghan population.

The Caribbean

Criminal activity in Caribbean states, as a drug-transit zone for illegal substances, is of deep concern to the United States. United States-bound trafficking in cocaine through the Caribbean dramatically increased from five percent of the total in 2011 to nine percent in 2012. A central response to this threat by the United States and 13 Caribbean partner nations is the Caribbean Basin Security Initiative (CBSI) which is specifically designed to address citizen safety by fostering a wide range of crime prevention programs.

Although the problems are daunting, concrete results are being achieved through the support of CBSI, European organizations, and the Organization of American States (OAS) Inter-American Drug Abuse Control Commission. Through CBSI, some 2,500 Caribbean police officers were trained in the Dominican Republic, a country that has undertaken an aggressive counternarcotics institution building program. Moreover, the United States is training thousands of Caribbean officials elsewhere in the region on fundamental subjects such as crime scene and homicide investigation. CBSI programs are upgrading the ability of Caribbean partners to investigate complex financial crimes, manage forfeited or seized assets, and prosecute criminals. A range of programs are building awareness, upgrading treatment facilities, and fostering the creation of drug courts as alternatives to incarceration for non-violent offenders. The work of a violent crimes task force in St. Kitts and Nevis, mentored by U.S. officials, helped to reduce homicides in St. Kitts and Nevis by 41 percent.

Central America

The seven Central American nations are considered major drug transit countries that significantly affect the United States: Belize, Costa Rica, El Salvador, Guatemala, Honduras, Nicaragua, and Panama. United States Government analysts estimate that approximately 90 percent of illegal drugs from South America destined for the United States are smuggled through the seven Central American countries and Mexican corridor. Of this amount, nearly 80 percent stops first in a Central American country before onward shipment to Mexico. The Central American Regional Security Initiative (CARSI), initiated in 2008, supports local government efforts to strengthen the rule of law, lower homicide rates, and deny traffickers safe haven.

Under CARSI, U.S.-funded training, equipment, and technical assistance provided to Central America has contributed to concrete success. The model precinct program in El Salvador, for example, has helped reduce the homicide rate by 70 percent in one crime-ridden community. The CARSI-supported program to create transnational anti-gang units is expanding their criminal investigative leads, especially against the MS-13 and M-18 gangs. These criminal gangs have significant drug trafficking and other criminal links in major U.S. cities. Anti-gang units in Central America led to a homicide arrest in Oklahoma City, the prosecution of felony extortions in Annapolis, Maryland, and the capture of one of the FBI's top ten most-wanted fugitives, a suspect who was arrested in El Salvador.

Countries are also strengthening cooperation through the Central American Integrated System (SICA) to promote citizen security and other related programs. Multilateral cooperation to stem the smuggling of essential and precursor chemicals from China used to produce illegal synthetic drugs in Central America is an important component of SICA's mandate. This SICA undertaking is aligned with the growing abuse during the last decade of new psychoactive substances (NPS), the production of which is a growing problem in Central America.

The illegal production of NPS is dependent upon access to a wide range of chemicals. Successful interdictions of unauthorized chemicals in Central America have created the urgent need for effective management and disposal systems. To support the overall effort, U.S. funding in 2013 and 2014 to the OAS Department of Public Security will help provide Central American countries with the development of relevant infrastructure to properly process and destroy these illegally shipped chemicals.

West Africa

Although no West African country is currently listed as a major drug producer or transit zone, the region is a growing concern. The destabilizing effects of increasing drug trafficking in West Africa with direct links to transnational crime organizations based in Latin America pose a direct threat to stability on the African continent. The U.N. Office on Drugs and Crime estimates that cocaine trafficking in West Africa generates approximately $1.25 billion at wholesale prices in Europe.

African leaders understand that growing criminal enterprises in their countries negatively impact national goals for peace and security. Participants at the 2013 Extraordinary Summit of the Economic Community for West Africa highlighted the need for cooperation to counter drug trafficking in the region. Such efforts by nations in the region are supported by the United States Government's West Africa Cooperative Security Initiative, which will provide some $50 million in 2013 to combat transnational organized crime. Projects include, for example, anti-corruption training in Sierra Leone, support for a regional law enforcement training center in Ghana, and the development of specially trained counternarcotics law enforcement investigative units.

Drug trafficking in West Africa is of particular concern to Latin America and the United States. Law enforcement investigations show that illegal proceeds generated by criminal activities in African nations flow back to the Western Hemisphere, bolstering trafficking organizations' financial strength and ability to fuel the drug trade in producing and consuming countries, including OAS member states.

You are authorized and directed to submit this determination, with its Bolivia, Burma, and Venezuela memoranda of justification, under section 706 of the FRAA, to the Congress, and publish it in the Federal Register.

THE WHITE HOUSE,

Washington, September 13, 2013.

[FR Doc. 2013-23433

Filed 9-24-13; 8:45 am]

Billing code 4710-10